DEPARTMENT OF TRANSPORTATION

Intelligent Transportation Systems Program Advisory Committee; Notice of Meeting

AGENCY: ITS Joint Program Office, Research and Innovative Technology Administration, U.S. Department of Transportation.

ACTION: Notice.

The Intelligent Transportation Systems (ITS) Program Advisory Committee (ITS PAC) will hold a meeting on March 27, 2013, from 8:00 a.m. to 4:00 p.m. (EST), and on March 28, 2013, from 8:00 a.m. to 4:00 p.m. (EST) in the Admiral II and III rooms of the Courtyard Marriott Capitol Hill/Navy Yard Hotel, 140 L Street SE., Washington, DC 20003.

The ITS PAC, established under Section 5305 of Public Law 109-59, Safe, Accountable, Flexible, Efficient Transportation Equity Act: A Legacy for Users, August 10, 2005, and re-established under Section 53003 of Public Law 112-141, Moving Ahead for Progress in the 21st Century, July 6, 2012, was created to advise the Secretary of Transportation on all matters relating to the study, development, and implementation of intelligent transportation systems. Through its sponsor, the ITS Joint Program Office (JPO), the ITS PAC makes recommendations to the Secretary regarding ITS Program needs, objectives, plans, approaches, content, and progress.

The following is a summary of the meeting tentative agenda. March 27: (1) ITS JPO Activities Update, (2) Safety Pilot Program Update, and (3) Shared Use Frequency Spectrum Issues Update. March 28: (1) NHTSA Rule-making Process Overview, (2) Subcommittee Break-out Meetings, and (3) Subcommittee Reports.

The meeting will be open to the public, but limited space will be available on a first-come, first-served basis. Members of the public who wish to present oral statements at the meeting must request approval from Mr. Stephen Glasscock, the Committee Designated Federal Official, at (202) 366-9126, not later than March 20, 2013.

Questions about the agenda or written comments may be submitted by U.S. Mail to: U.S. Department of Transportation, Research and Innovative Technology Administration, ITS Joint Program Office, Attention: Stephen Glasscock, 1200 New Jersey Avenue SE, HOIT, Washington, DC 20590 or faxed to (202) 493-2027. The ITS Joint Program Office requests that written comments be submitted not later than March 20, 2013.

Notice of this meeting is provided in accordance with the Federal Advisory Committee Act and the General Services Administration regulations (41 CFR part 102-3) covering management of Federal advisory committees.

Issued in Washington, DC, on the 4th day of March 2013.
Kenneth M. Leonard,
Director, ITS Joint Program Office.

[FR Doc. 2013-05482 Filed 3-12-13; 8:45 am]

BILLING CODE 4910-HY-P